DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (240) 276-1243.

Project: National Suicide Prevention Lifeline—Crisis Center Survey—NEW

The Substance Abuse and Mental Health Services Administration's (SAMHSA), Center for Mental Health Services funds a National Suicide Prevention Lifeline Network, a system of toll-free telephone numbers that routes calls from anywhere in the United States to a network of more than 147 certified crisis centers that can link callers to local emergency, mental health, and social service resources. The technology permits calls to be directed immediately to a suicide prevention worker who is geographically closest to the caller.

Through its grantee which is administering the National Suicide Prevention Lifeline Network, SAMHSA developed a Crisis Center Survey in an effort to learn more about the capacities, skills, and unmet needs of the crisis centers involved in the Network. The completed Surveys will inform the Network's planning around technological capacity, network recruitment strategies, training, marketing, and other network resource development activities. The goal of this effort is to ensure that the telephonic routing system remains accurate, enhance quality services provided by networked crisis centers, increase service accessibility to people at risk for suicidal behavior, and optimize public health efforts to prevent suicide and suicidal behavior.

All 147 networked crisis centers will complete the Web-based Crisis Center Survey annually. The Survey requests information about organizational structure, staffing, scope of services, call center operations, quality assurance, community outreach/marketing, telephone equipment, data collection, and technical assistance needs.

The estimated annual response burden to collect this information is as follows:

Instrument | Number of respondents | Responses/ respondent | Total number of responses | Burden/ response (hours) | Annual burden (hours)
National Suicide Prevention Lifeline: Crisis Center Survey | 147 | 1 | 147 | 2 | 294

Written comments and recommendations concerning the proposed information collection should be sent by April 4, 2011 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-7285.

Dated: February 25, 2011.
Elaine Parry,
Director, Office of Management, Technology and Operations.

[FR Doc. 2011-4870 Filed 3-3-11; 8:45 am]

BILLING CODE 4162-20-P